DEPARTMENT OF DEFENSE

Department of the Navy

Notice of Intent To Grant Exclusive Patent License; Bioforce Nanosciences, Inc.

AGENCY: Department of the Navy, DoD.

ACTION: Notice.

SUMMARY: The Department of the Navy hereby gives notice of its intent to grant to Bioforce Nanosciences, Inc., a revocable, nonassignable, exclusive license to practice in the United States and certain foreign countries, the Government-owned inventions described in U.S. Patent No. 5,372,930 (Navy Case No. 73,568) issued December 13, 1994, entitled “Sensor for Ultra-Low Concentration Molecular Recognition” U.S. Patent No. 5,958,701 (Navy Case No. 79,257) issued September 28, 1999, entitled “Method for Measuring Intramolecular Forces by Atomic Force”; and U.S. Patent No. 5,992,226 (Navy Case No. 78,838) issued November 30, 1999, entitled “Apparatus and Method for Measuring Intermolecular Interactions by Atomic Force Microscopy”.

DATES: Anyone wishing to object to the grant of this license must file written objections along with supporting evidence, if any, not later than July 17, 2002.

ADDRESSES: Written objections are to be filed with the Naval Research Laboratory, Code 1004, 4555 Overlook Avenue, SW, Washington, DC 20375-5320.

FOR FURTHER INFORMATION CONTACT: Catherine M. Cotell, Ph.D. Head, Technology Transfer Office, NRL Code 1004, 4555 Overlook Avenue, SW, Washington, DC 20375-5320, telephone (202) 767-7230. Due to U.S. Postal delays, please fax (202) 404-7920, e-mail: cotell@nrl.navy.mil or use courier delivery to expedite response.

(Authority: 35 U.S.C. 207, 37 CFR part 404.)

Dated: June 25, 2002.
R.E. Vincent, II,
Lieutenant Commander, Judge Advocate General's Corps, U.S. Navy, Federal Register Liaison Officer.

[FR Doc. 02-16587 Filed 7-1-02; 8:45 am]

BILLING CODE 3810-FF-P